DEPARTMENT OF STATE

[Public Notice: 9456]

U.S. Department of State Advisory Committee on Private International Law (ACPIL): Public Meeting on Electronic Commerce

The Office of the Assistant Legal Adviser for Private International Law, Department of State, gives notice of a public meeting to discuss a Working Paper prepared by the Secretariat of the United Nations Commission on International Trade Law (UNCITRAL). The public meeting will take place on Tuesday, May 3, 2016 from 10 a.m. until 12 p.m. EDT. This is not a meeting of the full Advisory Committee.

The UNCITRAL Secretariat has revised draft provisions on electronic transferable records, which are presented in the form of a model law, for discussion during the next meeting of UNCITRAL's Working Group IV, which will meet May 9-13, 2016. The Working Paper, which will be numbered WP.137 and will include WP.137/Add.1, will be available at http://www.uncitral.org/uncitral/en/commission/working_groups/4Electronic_Commerce.html.

The purpose of the public meeting is to obtain the views of concerned stakeholders on the topics addressed in the Working Paper in advance of the meeting of Working Group IV. Those who cannot attend but wish to comment are welcome to do so by email to Michael Coffee at coffeems@state.gov.

Time and Place: The meeting will take place from 10 a.m. until 12 p.m. EDT in Room 356, South Building, State Department Annex 4, Washington, DC 20037. Participants should plan to arrive at the Navy Hill gate on the west side of 23rd Street NW., at the intersection of 23rd Street NW., and D Street NW., by 9:30 a.m. for visitor screening. If you are unable to attend the public meeting and would like to participate from a remote location, teleconferencing will be available.

Public Participation: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than April 26, 2016. Requests made after that date will be considered, but might not be able to be fulfilled. If you would like to participate by telephone, please email pil@state.gov to obtain the call-in number and other information.

Data from the public is requested pursuant to Public Law 99-399 (Omnibus Diplomatic Security and Antiterrorism Act of 1986), as amended; Public Law 107-56 (USA PATRIOT Act); and E.O. 13356. The purpose of the collection is to validate the identity of individuals who enter Department facilities.

The data will be entered into the Visitor Access Control System (VACS-D) database. Please see the Security Records System of Records Notice (State-36) at https://foia.state.gov/_docs/SORN/State-36.pdf for additional information.

Dated: February 19, 2016.
Michael S. Coffee,
Attorney-Adviser, Office of Private International Law, Office of the Legal Adviser, U.S. Department of State.

[FR Doc. 2016-04522 Filed 2-29-16; 8:45 am]

BILLING CODE 4710-08-P